FEDERAL COMMUNICATIONS COMMISSION

47 CFR Parts 1, 90, 95, and 97

[ET Docket No. 19-138; FCC 24-123; FR ID 272367]

Use of the 5.850-5.925 GHz Band; Correction

AGENCY: Federal Communications Commission.

ACTION: Final rule; correction.

SUMMARY: The Federal Communications Commission (Commission) is correcting a final rule that appeared in the Federal Register on December 13, 2024. The document addressed the transition of 5.9 GHz Intelligent Transportation System (ITS) operations from Dedicated Short Range Communications (DSRC)-based technology to cellular-vehicle-to-everything (C-V2X)-based technology.

DATES: Effective February 11, 2025.

FOR FURTHER INFORMATION CONTACT: Jamie Coleman of the Office of Engineering and Technology, at Jamie.Coleman@fcc.gov or 202-418-2705.

SUPPLEMENTARY INFORMATION: In FR Doc. 2024-28980 appearing on page 100838 in the Federal Register of Friday, December 13, 2024, the following corrections are made:

1. On page 100838, in the second column, correct the DATES caption to read as follows:

DATES: This final rule is effective February 11, 2025, except for the amendments to 47 CFR 90.7 (instruction 5), 47 CFR 90.149(b) (instruction 9), 47 CFR 90.155(i) (instruction 11), 47 CFR 90.179(f) (instruction 14), 47 CFR 90.210 (instruction 15), 47 CFR 90.213 (instruction 16), 47 CFR 90.350 (instruction 18), the removal of 47 CFR 90.370 through 90.384 (instruction 22), and the removal of a center heading and 47 CFR 95.3105 through 95.3189 (instruction 32), which are effective December 14, 2026.

§ 1.907 [Corrected]

2. On page 100850, in the third column, in § 1.907, the definition of Covered geographic licenses is corrected to read as follows:

* * * * *

Covered geographic licenses. Covered geographic licenses consist of the following services: 1.4 GHz Service (part 27, subpart I, of this chapter); 1.6 GHz Service (part 27, subpart J); 24 GHz Service and Digital Electronic Message Services (part 101, subpart G, of this chapter); 218-219 MHz Service (part 95, subpart F, of this chapter); 220-222 MHz Service, excluding public safety licenses (part 90, subpart T, of this chapter); 600 MHz Service (part 27, subpart N); 700 MHz Commercial Services (part 27, subparts F and H); 700 MHz Guard Band Service (part 27, subpart G); 800 MHz Specialized Mobile Radio Service (part 90, subpart S); 900 MHz Specialized Mobile Radio Service (part 90, subpart S); 900 MHz Broadband Service (part 27, subpart P); 3.45 GHz Service (part 27, subpart Q); 3.7 GHz Service (part 27, subpart O); Advanced Wireless Services (part 27, subparts K and L); Air-Ground Radiotelephone Service (Commercial Aviation) (part 22, subpart G, of this chapter); Broadband Personal Communications Service (part 24, subpart E, of this chapter); Broadband Radio Service (part 27, subpart M); Cellular Radiotelephone Service (part 22, subpart H); Citizens Broadband Radio Service (part 96, subpart C, of this chapter); Intelligent Transportation Systems Radio Service in the 5895-5925 MHz band, excluding public safety licenses (part 90, subpart M); Educational Broadband Service (part 27, subpart M); H Block Service (part 27, subpart K); Local Multipoint Distribution Service (part 101, subpart L); Multichannel Video Distribution and Data Service (part 101, subpart P); Multilateration Location and Monitoring Service (part 90, subpart M); Multiple Address Systems (EAs) (part 101, subpart O); Narrowband Personal Communications Service (part 24, subpart D); Paging and Radiotelephone Service (part 22, subpart E; part 90, subpart P); VHF Public Coast Stations, including Automated Maritime Telecommunications Systems (part 80, subpart J, of this chapter); Space Launch Services (part 26 of this chapter); Upper Microwave Flexible Use Service (part 30 of this chapter); and Wireless Communications Service (part 27, subpart D).

* * * * *

§ 90.7 [Corrected]

3. On page 100851, in the second column, in the last line of instruction 5 amending § 90.7, remove “Roadside Units (RSU)” and add in its place “Roadside Unit (RSU)”.

§ 90.35 [Corrected]

4. On page 100851, in the second column, instruction 7 “Amend § 90.35 by revising paragraph (b)(91) to read as follows:” is corrected to read “Amend § 90.35 by revising paragraph (c)(91) to read as follows:”.

5. On page 100851, in the second column, correct the amendment text for § 90.35 by redesignating paragraph (b)(91) as paragraph (c)(91).

§ 90.390 [Corrected]

6. On page 100854, spanning all columns, correct table 1 to paragraph (a) in § 90.390 to read as follows:

* * * * *

Table 1 to Paragraph (a)
10-megahertz channels: | 20-megahertz channels: | 30-megahertz channel:
5895-5905 MHz | 5895-5915 MHz | 5895-5925 MHz.
5905-5915 MHz | 5905-5925 MHz
5915-5925 MHz

* * * * *

Federal Communications Commission.
Marlene Dortch,
Secretary.

[FR Doc. 2025-00642 Filed 1-16-25; 8:45 am]

BILLING CODE 6712-01-P